DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by October 6, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Louisiana State University, Baton Rouge, LA, PRT-127167

The applicant requests a permit to import tissue samples from live wild-origin captive held Siamese crocodiles (Crocodylus siamensis) from the Phnom Tamao Wildlife Rescue Center in Cambodia for the purpose of scientific research.

Applicant: Crawford, Graham, DVM, Sonoma, CA, PRT-130334

The applicant requests a permit to import blood and tissue samples from live wild lemurs (Lemur catta) from Madagascar for the purpose of scientific research.

Dated: August 11, 2006.
Michael L. Carpenter,
Senior Permit Biologist, Branch of Permits, Division of Management Authority.

[FR Doc. E6-14682 Filed 9-5-06; 8:45 am]

BILLING CODE 4310-55-P